DEPARTMENT OF HEALTH AND HUMAN SERVICES

Health Resources and Services Administration

Targeted Capacity Building Assistance for HIV/AIDS Primary Health Care Program Announcement

AGENCY: Health Resources and Services Administration, HHS.

ACTION: Notice of availability of funds; request for letters of intent to apply.

SUMMARY: The Health Resources and Services Administration (HRSA) announces the availability of Fiscal Year (FY) 2000 funds for a cooperative agreement to provide targeted capacity building assistance (TCBA) to non-profit or public, community-based organizations (CBO) serving communities of color significantly impacted by existing and emerging HIV/AIDS epidemics.

Funds for the TCBA program are made available through the U.S. Department of Health and Human Services (DHHS) in collaboration with the Congressional Black Caucus (CBC) Initiative to reduce disparities in the rate of HIV/AIDS infections within communities of color. Programs funded through the DHHS/CBC Initiative are to be used to develop, improve and/or expand HIV/AIDS prevention, care and treatment services and research opportunities targeting communities of color, including African American, Latino, Asian American/Pacific Islander, Native American, Alaskan Natives and Native Hawaiians, significantly impacted by HIV/AIDS. The DHHS/CBC Initiative funds for the TCBA program were appropriated to the Ryan White CARE Act Title III for targeted technical assistance to minority community based health care and service providers with a history of service provision to communities of color.

The TCBA program will expand and improve the delivery of HIV/AIDS primary health care services by CBOs to communities of color living with HIV/AIDS. HRSA will provide $700,000 to support one national, regional or local organization representing communities of color, with a demonstrable record of providing TCBA and other technical assistance designed to strengthen HIV/AIDS systems of health care.

The purpose of this announcement is to request Letters of Intent to Apply and applications to this program. HRSA is requesting Letters of Intent to Apply to estimate the number of applications it will receive and thereby plan appropriately for the timely award of these funds. Letters of Intent to Apply are not required to submit an application to the program, nor are they binding.

Program Purpose: The purpose of the TCBA program is to increase the availability, accessibility and quality of HIV/AIDS primary health care services for underserved communities of color living with HIV/AIDS by developing or enhancing the HIV/AIDS primary care infrastructure within those communities. Targeted capacity building assistance is defined as a process that results in increasing the core competencies that are essential to developing, implementing and sustaining effective programs within an organization. Provided TCBA will be designed to develop and/or enhance the core competencies needed by key staff within CBOs serving communities of color to enable the organization to expand, implement and sustain HIV/AIDS primary medical and health care programs. Core competencies to be developed include care and treatment protocols for HIV/AIDS primary health care, cultural and linguistic competency, program management, fiscal management, resource development, information systems management, governance, network development, etc. The TCBA also will enable CBOs to establish or participate in community-based provider networks delivering comprehensive HIV/AIDS primary health care services.

The TCBA program will tailor provided assistance to the specific needs of CBOs serving communities of color significantly impacted by current and emerging HIV/AIDS epidemics. The TCBA program will work in collaboration with CBO key staff to address their organization's and communities' needs and concerns within the context of the communities' social, economic and political realities.

Examples of TCBA include, but are not limited to, activities designed to improve or establish:

(1) Staff expertise with respect to the care and treatment needs of clients with HIV/AIDS;

(2) The ability to identify gaps in HIV/AIDS primary health care service delivery through formal needs assessment;

(3) Staff expertise in identifying and applying for funding;

(4) Processes, systems or procedures for core management functions (e.g., administration, programming, fiscal planning, resource development, evaluation, etc.);

(5) The ability to identify and work effectively with other local HIV/AIDS service providers through referral networks; and

(6) Capacity to document, manage, use and report information that tracks client demographics, service utilization and outcomes.

Required Program Activities: Applicants must propose a plan for a systematic and cost effective process by which to implement the required activities listed below. Applicants are free to propose additional activities.

(1) Market the program and outreach to CBOs who could most benefit from the program.

(2) Develop a standardized tool for assessing the capacity building needs and goals of identified CBOs and work with each CBO to assess its needs.

(3) Develop and initiate a TCBA plan in response to identified needs.

(4) Evaluate the outcome and effectiveness of the TCBA provided.

(5) Facilitate linkages, networks and collaborations among different providers within a specific community.

(6) Document the components of an effective TCBA program for HIV/AIDS primary care delivery by CBOs serving communities of color.

(7) Coordinate activities with other capacity building programs and initiatives, including but not limited to, those funded by the DHHS/Congressional Black Caucus Initiative to Address Racial/Ethnic Disparities in HIV/AIDS.

(8) Work cooperatively with HRSA in the design and implementation of the program and the establishment of program priorities.

Eligible Applicants: Eligible applicants are public and non-profit, national, regional and local organizations which have served or are serving communities of color. The applicant must have a demonstrable record of providing capacity building assistance and other technical assistance to organizations in the development or improvement of HIV/AIDS primary health care programs within the past five years. The applicant must propose a consortium of organizations to include, the applicant and two or more contractor organizations that satisfy the above criteria. Anticipated documentation of a demonstrable record of providing capacity building assistance and other technical assistance includes letters of reference, letters of collaboration, letters of support from former or current clients, agency annual reports, service agreements, etc.

Successful applicants to this cooperative agreement will propose a consortium of organizations that collectively: (1) Possess complementary capabilities and expertise, (2) possess staff and board members who represent the diverse racial/ethnic demographics of those most severely impacted by HIV/AIDS, and (3) possess staff (or consultants) with direct experience implementing HIV/AIDS primary care programs. In addition, successful applicants will propose a consortium of organizations that collectively possess the capacity and capabilities to: (1) Provide TCBA and other technical assistance in various technical areas, (2) design multifaceted strategies to identify, deliver services to, and work effectively with CBOs serving communities of color, and (3) develop and deliver culturally and linguistically appropriate materials and instruction.

Availability of Funds: Up to $700,000 dollars are available in FY 2000 to award one cooperative agreement. It is expected that awards will be made on or before September 30, 2000. Funding will be made available for twelve months, with a project period of one year.

Authorization: Sections 2651-2654 of the Public Health Service Act

Letters of Intent To Apply: Letters of Intent to Apply to this program should include the following information for the applicant: (1) The organization name and contact information, (2) a brief organizational capabilities statement, and (3) a brief description of the program model to be proposed. Letters of Intent to Apply should be submitted to the HIV/AIDS Bureau, HRSA on or before July 10, 2000.

Application Dates: In order to be considered for competition, applications to this cooperative agreement program must be received at the HRSA Grants Application Center by close of business on Friday, August 25, 2000. Applications shall be considered as meeting the deadline if they are: (1) Received on or before the deadline, or (2) postmarked on or before the deadline date and received in time for orderly processing and submission to the review committee. Applicants should request a legibly dated receipt from a commercial carrier or U.S. Postal Service postmark. Private metered postmarks shall not be acceptable as proof of mailing. Applications received after the deadline will be returned to the applicant and not reviewed.

ADDRESSES: All Applications should be mailed or delivered to: HRSA Grants Application Center, 1815 N. Fort Myer Drive, Arlington, VA 22209, Attention: CFDA #93.145B. All Letters of Intent to Apply should be mailed or delivered to: Rene Sterling, HIV/AIDS Bureau, Health Resources and Services Administration, 5600 Fishers Lane, Room 7-36, Rockville, MD 20857.

Program Guidance & Application Kits: The Targeted Capacity Building Assistance for HIV/AIDS Primary Health Care Program Guidance is available on the HIV/AIDS Bureau web site at the following Internet address: http://www.hrsa.gov/hab. The required federal grant application kit (PHS Form 5161-1) is available at the following Internet address: http://forms.psc.gov/phsforms.htm. For those applicants who are unable to access application materials electronically, hard copies must be obtained from the HRSA Grants Application Center. The telephone number to the HRSA Grants Application Center is (877) 477-2123, the fax number is (877) 477-2345, and the e-mail address is hrsagac@hrsa.gov.

FOR FURTHER INFORMATION CONTACT: Additional technical information may be obtained from Rene Sterling, HIV/AIDS Bureau, Health Resources and Services Administration, 5600 Fishers Lane, Room 7-36, Rockville, MD 20857. The telephone number is (301) 443-7778, the fax number is (301) 594-2835, and the e-mail address is Rsterling@hrsa.gov.

Dated: June 20, 2000.
Claude Earl Fox,
Administrator.

[FR Doc. 00-15988 Filed 6-23-00; 8:45 am]

BILLING CODE 4160-15-P